DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Roy E. Wright, Deputy Director, Risk Analysis Division, Federal Insurance and Mitigation Administration, Federal Emergency Management Agency, 500 C Street SW., Washington, DC 20472, (202) 646-3461, or (e-mail) roy.e.wright@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Phillips County, Arkansas, and Incorporated Areas
Docket No.: FEMA-B-1045
Mississippi River | At River Mile 618 | +174 | Unincorporated Areas of Phillips County.
| At River Mile 662 | +197
| At River Mile 664 | +198
| At River Mile 673 | +202
* National Geodetic Vertical Datum.
+ North American Vertical Datum.
# Depth in feet above ground.
‸ Mean Sea Level, rounded to the nearest 0.1 meter.
ADDRESSES
Unincorporated Areas of Phillips County
Maps are available for inspection at 620 Cherry Street, Suite 208, Helena, AR 72342.
Harvey County, Kansas, and Incorporated Areas
Docket No.: FEMA-B-1047
Sand Creek | Approximately 865 feet upstream of Northeast 24th Street | +1,434 | City of North Newton.
| Approximately 1,590 feet upstream of Northeast 24th Street | +1,434
* National Geodetic Vertical Datum.
+ North American Vertical Datum.
# Depth in feet above ground.
‸ Mean Sea Level, rounded to the nearest 0.1 meter.
ADDRESSES
City of North Newton
Maps are available for inspection at 2601 North Main Street, North Newton, KS 67117.
Roosevelt County, New Mexico, and Incorporated Areas
Docket No.: FEMA-B-1061
17th and 18th Street Shallow Flooding | Flooding effects extending southward approximately 2,250 feet from East 18th Street | +4,001-4,003 | Unincorporated Areas of Roosevelt County.
* National Geodetic Vertical Datum.
+ North American Vertical Datum.
# Depth in feet above ground.
‸ Mean Sea Level, rounded to the nearest 0.1 meter.
ADDRESSES
Unincorporated Areas of Roosevelt County
Maps are available for inspection at 109 West 1st Street, Portales, NM 88130.
Taos County, New Mexico, and Incorporated Areas
Docket No.: FEMA-B-1065
Bitter Creek | At the confluence with the Red River | +8,659 | Town of Red River, Unincorporated Areas of Taos County.
| Approximately 1,150 feet upstream of High Creek | +8,696
Red River | Just upstream of High Cost Trail | +8,612 | Town of Red River, Unincorporated Areas of Taos County.
| Approximately 1.08 mile downstream of Goose Lake Trail 66 | +8,782
Rio Lucero | At the confluence with the Rio Pueblo De Taos | +6,886 | Taos Pueblo.
| Approximately 0.56 mile upstream of Paseo Del Pueblo Norte Road | +6,995
Rio Pueblo De Taos | Just upstream of Karavas Road | +6,886 | Town of Taos, Taos Pueblo.
| Approximately 600 feet downstream of Paseo Del Pueblo Norte Road | +6,952
* National Geodetic Vertical Datum.
+ North American Vertical Datum.
# Depth in feet above ground.
‸ Mean Sea Level, rounded to the nearest 0.1 meter.
ADDRESSES
Taos Pueblo
Maps are available for inspection at the Floodplain Administrator's Office, 105 Albright Street, Suite A, Taos, NM 87571.
Town of Red River
Maps are available for inspection at 100 East Main Street, Red River, NM 87558.
Town of Taos
Maps are available for inspection at the Planning Department, 400 Camino De La Placita, Taos, NM 87571.
Unincorporated Areas of Taos County
Maps are available for inspection at the Floodplain Administrator's Office, 105 Albright Street, Suite A, Taos, NM 87571.
Brooks County, Texas, and Incorporated Areas
Docket No.: FEMA-B-1066
Cibolo Creek | At the confluence with Palo Blanco Creek | +106 | Unincorporated Areas of Brooks County.
| Just downstream of State Highway 325 | +113
Palo Blanco Creek | At the confluence with Cibolo Creek | +106 | Unincorporated Areas of Brooks County.
| Just downstream of State Highway 325 | +113
* National Geodetic Vertical Datum.
+ North American Vertical Datum.
# Depth in feet above ground.
‸ Mean Sea Level, rounded to the nearest 0.1 meter.
ADDRESSES
Unincorporated Areas of Brooks County
Maps are available for inspection at 408 West Travis Street, Falfurrias, TX 78355.
Howard County, Texas, and Incorporated Areas
Docket No.: FEMA-B-1066
Beals Creek | Just upstream of Midway Creek | +2,375 | City of Big Spring.
| At the confluence with One Mile Lake | +2,414
Big Spring Draw | At the confluence with Beals Creek | +2,375 | City of Big Spring, Unincorporated Areas of Howard County.
| Approximately 1,000 feet upstream of Country Club Road | +2,639
Reals Draw | At the confluence with Beals Creek | +2,408 | City of Big Spring, Unincorporated Areas of Howard County.
| Just downstream of Hilltop Road | +2,483
Stream BSP1 | At the confluence with Big Spring Draw | +2,580 | City of Big Spring.
| Just upstream of Parkway Road | +2,603
Stream BSP2 | At the confluence with Big Spring Draw | +2,632 | City of Big Spring, Unincorporated Areas of Howard County.
| Approximately 885 feet upstream of Driver Road | +2,645
Stream BSP3 | At the confluence with Beals Creek | +2,410 | City of Big Spring.
| Just upstream of Frontage Road | +2,487
Stream BSP4 | At the confluence with Stream BSP3 | +2,448 | City of Big Spring.
| Just upstream of Frontage Road | +2,495
Stream BSP5 | At the confluence with Beals Creek and One Mile Lake | +2,413 | City of Big Spring.
| Just upstream of Frontage Road | +2,469
* National Geodetic Vertical Datum.
+ North American Vertical Datum.
# Depth in feet above ground.
‸ Mean Sea Level, rounded to the nearest 0.1 meter.
ADDRESSES
City of Big Spring
Maps are available for inspection at 310 Nolan Street, Big Spring, TX 79720.
Unincorporated Areas of Howard County
Maps are available for inspection at 300 Main Street, Big Spring, TX 79720.
Oconto County, Wisconsin and Incorporated Areas
Docket No.: FEMA-B-1061
Anderson Lake | Entire shoreline | +860 | Unincorporated Areas of Oconto County.
Bass Lake/Crooked Lake/Gilkey Lake | Entire shoreline | +951 | Unincorporated Areas of Oconto County.
Brookside Creek | Approximately 0.41 mile upstream of U.S. Route 41 | +616 | Unincorporated Areas of Oconto County.
| Approximately 655 feet upstream of Cross Road | +681
Christie Brook | Approximately 1.3 mile downstream of Quarterline Road | +740 | City of Gillett, Unincorporated Areas of Oconto County.
| Approximately 0.3 mile upstream of Klaus Lake Road | +819
City of Oconto Tributary No. 4 | Approximately 344 feet downstream of County Highway S | +591 | City of Oconto, Unincorporated Areas of Oconto County.
| Just upstream of Cook Road | +595
Hayes Creek | Just upstream of Hayes Road | +832 | Unincorporated Areas of Oconto County.
| Just downstream of County Highway R | +844
Jones Creek | Just upstream of U.S. Route 141 | +697 | Village of Lena, Unincorporated Areas of Oconto County.
| Approximately 0.8 mile upstream of Harley Street | +708
Kirchner Creek | Approximately 225 feet downstream of Sampson Road | +599 | Unincorporated Areas of Oconto County.
| Approximately 1.1 mile downstream of East Frontage Road | +633
Little Suamico River | Approximately 500 feet upstream of Cross Road | +644 | Unincorporated Areas of Oconto County, Village of Pulaski.
| Approximately 0.2 mile upstream of 4th Avenue North | +793
McCaslin Brook | Approximately 410 feet upstream of Old 32 Road | +1,174 | Unincorporated Areas of Oconto County.
| Immediately downstream of Townsend Dam Road | +1,314
North Branch Oconto River | Approximately 0.8 mile upstream of Riverside Road | +1,161 | Unincorporated Areas of Oconto County.
| Approximately 1.5 mile upstream of Riverside Road | +1,185
Oconto River Tributary No. 2 | Just upstream of Mill Street | +590 | City of Oconto.
| Approximately 95 feet downstream of Charles Street | +598
Oconto River Tributary No. 22 | Approximately 150 feet downstream of South Maple Street | +641 | City of Oconto Falls, Unincorporated Areas of Oconto County.
| Approximately 0.6 mile upstream of South Flatley Avenue | +742
Pensaukee River | Approximately 0.3 mile upstream of County Highway J | +620 | Unincorporated Areas of Oconto County.
| Approximately 428 feet downstream of Safian Road | +760
Round Lake | Entire Shoreline | +827 | Unincorporated Areas of Oconto County.
Spring Creek | Just downstream of U.S. Route 141 | +653 | Unincorporated Areas of Oconto County.
| Approximately 0.7 mile upstream of County Highway E | +717
Spring Creek Tributary No. 6 | At the confluence with Spring Creek | +706 | Unincorporated Areas of Oconto County.
| Approximately 450 feet upstream of Burdosh Road | +717
Tibbet Creek | Approximately 600 feet downstream of Rost Road | +585 | Unincorporated Areas of Oconto County.
| Approximately 1.7 mile upstream of Lade Beach Road | +627
Town Creek | Approximately 0.6 mile downstream of Palmer Lane | +920 | Unincorporated Areas of Oconto County.
| Just downstream of State Highway 32/64 | +980
Waupee Creek | Just upstream of State Highway 32/64 | +859 | Unincorporated Areas of Oconto County.
| Immediately downstream of the Waupee Dam | +937
Wescott Lake | Entire Shoreline | +845 | Unincorporated Areas of Oconto County.
* National Geodetic Vertical Datum.
+ North American Vertical Datum.
# Depth in feet above ground.
‸ Mean Sea Level, rounded to the nearest 0.1 meter.
ADDRESSES
City of Gillett
Maps are available for inspection at 150 North McKenzie Avenue, Gillett, WI 54124.
City of Oconto
Maps are available for inspection at 1210 Main Street, Oconto, WI 54153.
City of Oconto Falls
Maps are available for inspection at 500 North Chestnut Avenue, Oconto, WI 54154.
Unincorporated Areas of Oconto County
Maps are available for inspection at 301 Washington Street, Oconto, WI 54153.
Village of Lena
Maps are available for inspection at 117 East Main Street, Lena, WI 54139.
Village of Pulaski
Maps are available for inspection at 421 South Augustine Street, Pulaski, WI 54162.

(Catalog of Federal Domestic Assistance No. 97.022, “Flood Insurance.”)

Dated: September 13, 2010.
Sandra K. Knight,
Deputy Federal Insurance and Mitigation Administrator, Mitigation, Department of Homeland Security, Federal Emergency Management Agency.

[FR Doc. 2010-24147 Filed 9-24-10; 8:45 am]

BILLING CODE 9110-12-P